DEPARTMENT OF TRANSPORTATION

Federal Aviation Administration

14 CFR Part 71

[Docket No. FAA-2018-0221; Airspace Docket No. 17-ANM-24]

RIN 2120-AA66

Proposed Amendment, Revocation, and Establishment of Multiple Air Traffic Service (ATS) Routes; Western United States

AGENCY: Federal Aviation Administration (FAA), DOT.

ACTION: Notice of proposed rulemaking (NPRM).

SUMMARY: This action proposes to amend three United States Area Navigation (RNAV) Routes (T-274, T-276, T-302), remove one RNAV route (T-304), and establish five RNAV routes (T-268, T-317, T-328, T-332, T-355) in the western United States. The routes would promote operational efficiencies for users and provide connectivity to current and proposed RNAV enroute and terminal procedures.

DATES: Comments must be received on or before June 11, 2018.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2018-0221; Airspace Docket No. 17-ANM-24 at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the route structure as necessary to support the continuity of the airways within the National Airspace System.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2018-0221; Airspace Docket No. 17-ANM-24) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2018-0221; Airspace Docket No. 17-ANM-24.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 2200 South 216th St., Des Moines, WA 98198.

Availability and Summary of Documents for Incorporation by Reference

This document proposes to amend FAA Order 7400.11B, airspace Designations and Reporting Points, dated August 3, 2017, and effective September 15, 2017. FAA Order 7400.11B is publicly available as listed in the ADDRESSES section of this document. FAA Order 7400.11B lists Class A, B, C, D, and E airspace areas, air traffic service routes, and reporting points.

Background

The Seattle, Salt Lake City, Oakland, Denver, and Minneapolis Air Route Traffic Control Centers (ARTCCs) propose to amend three RNAV T-routes, remove one RNAV T-route, and establish five new RNAV T-routes. These RNAV routes will support the low altitude route structure in the above listed ARTCCs airspace providing routes around congested airspace, routing around special use airspace (SUA), lower minimum enroute altitudes (MEAs) across mountainous terrain, provide connectivity to instrument approach procedures (IAPs) at airports, while minimizing traffic congestion within ARTCC and terminal control airspaces.

Additionally, FAA policy states even numbered route points are listed west to east and odd numbered routes points are listed south to north. Currently, route T-304 is an even numbered route extending north and south. Due to this amendment the route is oriented south to north which dictates a number change to an odd numbered route. Hence, the reasoning for deletion of route T-304. This proposed amendment corrects the numbering of the route and will be in line with current policy.

The Proposal

The FAA is proposing an amendment to Title 14, Code of Federal Regulations (14 CFR) part 71 to amend United States RNAV routes T-274, T-276, T-302; remove route T-304, and establish United States RNAV routes T-268, T-317, T-328, T-332, T-355. The proposed route changes are outlined below.

T-268: T-268 would be established from the Tatooush, WA (TOU), VORTAC to Bismarck, ND (BIS), VOR/DME. T-268 provides a route structure around Seattle Class B airspace to the northwest extending east, providing the lowest MEA across the Cascade Mountain Range, lower than existing victor airways where icing conditions are prevalent. The airway extends east through air traffic control terminal airspace areas, borders the Powder River Military Operations Areas (MOAs) to the north, and terminates in North Dakota.

T-274: T-274 would be amended to provide a route across the Cascade Mountain Range in central Oregon. Once east of the mountain range, it provides a RNAV route between and past several MOAs, past Reno, Nevada and terminating just prior to Los Angeles ARTCC airspace.

T-276: T-276 would be amended to extend west to Ocean Shores, WA and to the east, providing a route through the Columbia Gorge, bordering the Boardman MOA to the north. The route continues east past Walla Walla, WA, Missoula, Great Falls, and Lewistown, MT, bordering the HAYS MOA to the east, terminating at Glasgow, MT.

T-302: T-302 would be amended to extend to the southeast providing an RNAV route bordering the JUNIPER and SADDLE MOAs. The route continues past Boise, ID, and Twin Falls, ID, then southeast to Rock Springs, WY. From Rock Springs, the route continues east, terminating at LLUKY waypoint south of LAKEANDES MOA in Nebraska. This route provides connectivity to terminal instrument approach procedures at several airports.

T-304: T-304 would be removed.

T-317: T-317 would be established from the Newman, TX (EWM), VORTAC to Astoria, OR (AST), VOR/DME. T-317 will provide an RNAV route replacing portions of V-187, which was affected by the discontinuance of the McChord VORTAC.

T-328: T-328 would be established from the ORCUS, WA, fix to the KARSH, MT, fix. T-328 is a new airway that provides a route across the Cascade Mountain Range in northern Washington state where no low altitude airways exist today. This route borders the Okanogan MOA to the south, providing a safe route around the airspace. The airway borders the Spokane terminal airspace and connects with instrument approach procedures, providing a seamless transition from enroute to the landing phase of flight.

T-332: T-332 would be established from the ZONUV, WA, waypoint to the ROZTY, WA, waypoint. T-332 is a new route across the Cascade Mountain Range in northern Washington state. This route is a shorter route through the Okanogan MOA, to be used when released for joint use. This route provides an MEA of 10,700 feet, which is 1,000 feet lower than another route to the south. This route saves over 60 flying miles to get to a low MEA across the mountain range where icing conditions are prevalent.

T-355: T-355 would be established to extend south and north of the previous airway T-304, thus replacing the original west to east T-304 airway. T-355 will extend north and south of the original T-304 route to provide greater utility for air traffic. The route provides crossings of the Cascade Mountain Range and provides for connectivity to terminal areas in the Bend and Medford, Oregon airports. On the south end, the route links to the existing T-263. To the north it provides a route west of Seattle Class B airspace to Bellingham, WA, and the Canadian border.

United States Area Navigation Routes are published in paragraph 6011 of FAA Order 7400.11B dated August 3, 2017, and effective September 15, 2017, which is incorporated by reference in 14 CFR 71.1. The United States Area Navigation Routes listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6011—United States Area Navigation Routes.

T-268 TATOOSH, WA (TOU) to BISMARCK, ND (BIS) [New]
TATOOSH, WA (TOU) | VORTAC | (lat. 48°17′59.64″ N, long. 124°37′37.36″ W)
HEMER, WA | WP | (lat. 48°21′52.95″ N, long. 124°23′26.86″ W)
YUCSU, WA | FIX | (lat. 48°11′20.81″ N, long. 123°54′25.64″ W)
WATTR, WA | FIX | (lat. 48°08′21.35″ N, long. 122°56′27.97″ W)
WOODI, WA | FIX | (lat. 47°46′07.46″ N, long. 121°51′47.70″ W)
BANDR, WA | FIX | (lat. 47°15′30.14″ N, long. 121°29′32.11″ W)
MERFF, WA | WP | (lat. 47°02′12.58″ N, long. 120°27′28.25″ W)
MOSES LAKE, WA (MWH) | VOR/DME | (lat. 47°12′39.11″ N, long. 119°19′00.54″ W)
SPOKANE, WA (GEG) | VORTAC | (lat. 47°33′53.80″ N, long. 117°37′36.79″ W)
MULLAN PASS, ID (MLP) | VOR/DME | (lat. 47°27′24.85″ N, long. 115°38′45.76″ W)
MISSOULA, MT (MSO) | VOR/DME | (lat. 46°54′28.68″ N, long. 114°05′01.15″ W)
HELENA, MT (HLN) | VORTAC | (lat. 46°36′24.56″ N, long. 111°57′12.51″ W)
CONNS, MT | FIX | (lat. 46°16′06.81″ N, long. 111°04′55.70″ W)
NUKUW, MT | FIX | (lat. 46°04′09.77″ N, long. 110°51′18.39″ W)
SUBKY, MT | FIX | (lat. 45°44′00.60″ N, long. 109°57′37.27″ W)
BILLINGS, MT (BIL) | VORTAC | (lat. 45°48′30.81″ N, long. 108°37′28.73″ W)
MILES CITY, MT (MLS) | VOR/DME | (lat. 46°22′56.02″ N, long. 105°57′12.72″ W)
DICKINSON, ND (DIK) | VORTAC | (lat. 46°51′36.14″ N, long. 102°46′24.60″ W)
BISMARCK, ND (BIS) | VOR/DME | (lat. 46°45′42.34″ N, long. 100°39′55.47″ W)

* * * * *

T-274 NEWPORT, OR (ONP) to LIDAT, NV [Amended]
NEWPORT, OR (ONP) | VORTAC | (lat. 44°34′31.26″ N, long. 124°03′38.14″ W)
WESHH, OR | WP | (lat. 44°38′50.00″ N, long. 123°35′32.35″ W)
CRAAF, OR | FIX | (lat. 44°45′37.17″ N, long. 123°21′05.90″ W)
JAIME, OR | FIX | (lat. 44°25′07.17″ N, long. 122°36′28.01″ W)
MMASN, OR | WP | (lat. 44°21′15.22″ N, long. 121°15′36.06″ W)
FASAB, OR | WP | (lat. 42°23′22.00″ N, long. 120°23′51.65″ W)
NUSME, CA | WP | (lat. 41°53′43.18″ N, long. 120°20′35.71″ W)
RUFUS, CA | WP | (lat. 41°26′00.00″ N, long. 120°00′00.00″ W)
MUSTANG, NV (FMG) | VORTAC | (lat. 39°31′52.60″ N, long. 119°39′21.87″ W)
COALDALE, NV (OAL) | VORTAC | (lat. 38°00′11.74″ N, long. 117°46′13.61″ W)
LIDAT, NV | FIX | (lat. 37°25′48.67″ N, long. 117°16′41.00″ W)

* * * * *

T-276 WAVLU, WA to GLASGOW, MT (GGW) [Amended]
WAVLU, WA | FIX | (lat. 46°50′00.90″ N, long. 124°06′35.70″ W)
WINLO, WA | FIX | (lat. 46°27′27.26″ N, long. 123°06′03.90″ W)
COUGA, WA | FIX | (lat. 46°05′31.23″ N, long. 122°40′38.59″ W)
CARBY, WA | FIX | (lat. 45°44′05.96″ N, long. 121°55′31.67″ W)
VECCU, WA | FIX | (lat. 45°40′53.27″ N, long. 120°52′00.64″ W)
WALLA WALLA, WA (ALW) | VOR/DME | (lat. 46°05′13.11″ N, long. 118°17′33.13″ W)
RENGO, WA | FIX | (lat. 46°20′08.16″ N, long. 117°50′42.07″ W)
HENVO, ID | WP | (lat. 46°19′48.06″ N, long. 116°37′33.04″ W)
OFINO, ID | FIX | (lat. 46°31′19.36″ N, long. 116°09′54.90″ W)
FRYMN, MT | FIX | (lat. 47°17′32.40″ N, long. 111°38′36.84″ W)
YOGOS, MT | FIX | (lat. 47°19′30.51″ N, long. 110°49′37.75″ W)
EVBUJ, MT | WP | (lat. 47°03′09.79″ N, long. 109°44′19.14″ W)
ITEVE, MT | WP | (lat. 47°02′12.69″ N, long. 109°10′20.79″ W)
WUDEY, MT | WP | (lat. 47°20′13.56″ N, long. 106°56′58.95″ W)
GLASGOW, MT (GGW) | VOR/DME | (lat. 48°12′55.10″ N, long. 106°37′31.51″ W)

* * * * *

T-302 CUKIS, OR to LLUKY, NE [Amended]
CUKIS, OR | WP | (lat. 45°20′59.59″ N, long. 122°21′49.41″ W)
CUPRI, OR | FIX | (lat. 44°37′03.76″ N, long. 121°15′13.89″ W)
WILDHORSE, OR (ILR) | VOR/DME | (lat. 43°35′35.27″ N, long. 118°57′18.18″ W)
JOSTN, OR | WP | (lat. 43°34′16.92″ N, long. 117°53′51.34″ W)
PARMO, ID | FIX | (lat. 43°45′32.78″ N, long. 116°49′10.43″ W)
TOXEE, ID | FIX | (lat. 42°41′41.81″ N, long. 114°27′13.10″ W)
JADUP, ID | WP | (lat. 42°44′32.00″ N, long. 113°42′15.22″ W)
ROCK SPRINGS, WY (OCS) | VOR/DME | (lat. 41°35′24.76″ N, long. 109°00′55.18″ W)
FIKLA, WY | WP | (lat. 41°56′20.50″ N, long. 106°57′11.03″ W)
MEDICINE BOW, WY (MBW) | VOR/DME | (lat. 41°50′43.88″ N, long. 106°00′15.42″ W)
SCOTTSBLUFF, NE (BFF) | VORTAC | (lat. 41°53′38.99″ N, long. 103°28′55.31″ W)
WAKPA, NE | WP | (lat. 42°03′21.64″ N, long. 103°04′57.99″ W)
ALLIANCE, NE (AIA) | VOR/DME | (lat. 42°03′20.27″ N, long. 102°48′16.00″ W)
MARSS, NE | FIX | (lat. 42°27′48.92″ N, long. 100°36′15.32″ W)
PUKFA, NE | WP | (lat. 42°22′59.52″ N, long. 099°59′36.42″ W)
GIYED, NE | FIX | (lat. 42°30′22.02″ N, long. 099°08′05.55″ W)
LLUKY, NE | WP | (lat. 42°29′20.26″ N, long. 098°38′11.44″ W)

* * * * *

T-304 GLARA, OR to HERBS, OR [Removed]

* * * * *

T-317 NEWMAN, TX (EWM) to ASTORIA, OR (AST) [New]
NEWMAN, TX (EWM) | VORTAC | (lat. 31°57′06.28″ N, long. 106°16′20.64″ W)
MOLLY, NM | FIX | (lat. 32°03′47.91″ N, long. 106°43′27.24″ W)
TRUTH OR CONSEQUENCES, NM (TCS) | VORTAC | (lat. 33°16′57.01″ N, long. 107°16′49.97″ W)
SOCORRO, NM (ONM) | VORTAC | (lat. 34°20′20.04″ N, long. 106°49′13.69″ W)
YECUG, NM | WP | (lat. 34°59′18.02″ N, long. 106°59′58.00″ W)
AWASH, NM | FIX | (lat. 35°16′35.44″ N, long. 106°59′15.33″ W)
RATTLESNAKE, NM (RSK) | VORTAC | (lat. 36°44′54.21″ N, long. 108°05′56.04″ W)
GRAND JUNCTION, CO (JNC) | VOR/DME | (lat. 39°03′34.44″ N, long. 108°47′33.27″ W)
ROCK SPRINGS, WY (OCS) | VOR/DME | (lat. 41°35′24.76″ N, long. 109°00′55.18″ W)
SWEAT, WY | FIX | (lat. 42°26′35.02″ N, long. 108°27′10.31″ W)
RIVERTON, WY (RIW) | VOR/DME | (lat. 43°03′56.63″ N, long. 108°27′19.92″ W)
FETIK, WY | FIX | (lat. 43°17′24.59″ N, long. 108°22′03.98″ W)
BILLINGS, MT (BIL) | VORTAC | (lat. 45°48′30.81″ N, long. 108°37′28.73″ W)
ZERZO, MT | FIX | (lat. 46°52′25.99″ N, long. 110°05′08.51″ W)
GREAT FALLS, MT (GTF) | VORTAC | (lat. 47°26′59.93″ N, long. 111°24′43.79″ W)
MISSOULA, MT (MSO) | VOR/DME | (lat. 46°54′28.68″ N, long. 114°05′01.15″ W)
NEZ PERCE, ID (MQG) | VOR/DME | (lat. 46°22′53.61″ N, long. 116°52′10.24″ W)
PASCO, WA (PSC) | VOR/DME | (lat. 46°16′12.96″ N, long. 119°07′02.27″ W)
MERFF, WA | WP | (lat. 47°02′12.58″ N, long. 120°27′28.25″ W)
MOUNT, WA | FIX | (lat. 47°06′19.17″ N, long. 121°54′17.49″ W)
FESAS, WA | WP | (lat. 47°05′13.84″ N, long. 122°44′00.62″ W)
ASTORIA, OR (AST) | VOR/DME | (lat. 46°09′42.11″ N, long. 123°52′49.36″ W)

* * * * *

T-328 ORCUS, WA to KARSH, MT [New]
ORCUS, WA | FIX | (lat. 48°20′39.54″ N, long. 123°07′44.01″ W)
BOCAT, WA | FIX | (lat. 48°20′32.01″ N, long. 122°09′44.74″ W)
CREEB, WA | FIX | (lat. 48°13′00.00″ N, long. 121°20′24.00″ W)
ROZSE, WA | WP | (lat. 48°13′22.57″ N, long. 121°01′45.71″ W)
KRUZR, WA | FIX | (lat. 48°04′38.90″ N, long. 120°34′40.72″ W)
SINGG, WA | WP | (lat. 47°59′30.00″ N, long. 119°00′00.00″ W)
ROZTY, WA | WP | (lat. 48°03′46.12″ N, long. 117°56′38.05″ W)
PRRKS, WA | WP | (lat. 48°08′48.19″ N, long. 117°31′08.00″ W)
DAINA, WA | WP | (lat. 48°08′43.44″ N, long. 117°07′27.78″ W)
INOBE, ID | FIX | (lat. 48°04′54.58″ N, long. 116°45′47.03″ W)
KKARP, ID | WP | (lat. 48°10′18.56″ N, long. 116°14′21.48″ W)
KARSH, MT | WP | (lat. 48°08′52.72″ N, long. 115°07′55.44″ W)

* * * * *

T-332 ZONUV, WA to ROZTY, WA [New]
ZONUV, WA | WP | (lat. 48°34′10.29″ N, long. 122°44′14.63″ W)
CRNEL, WA | WP | (lat. 48°28′19.45″ N, long. 122°13′20.64″ W)
AALIX, WA | WP | (lat. 48°30′15.89″ N, long. 121°45′22.85″ W)
BAALE, WA | WP | (lat. 48°26′42.58″ N, long. 121°24′56.40″ W)
SNNDY, WA | WP | (lat. 48°22′51.69″ N, long. 121°12′38.31″ W)
METOO, WA | WP | (lat. 48°22′59.81″ N, long. 120°07′42.05″ W)
ROZTY, WA | WP | (lat. 48°03′46.12″ N, long. 117°56′38.05″ W)

* * * * *

T-355 FOLDS, CA to SECOG, WA [New]
FOLDS, CA | FIX | (lat. 40°44′16.56″ N, long. 122°30′10.69″ W)
GRENA, CA | FIX | (lat. 41°43′31.31″ N, long. 122°29′09.72″ W)
TALEM, OR | FIX | (lat. 42°08′49.70″ N, long. 122°52′41.50″ W)
SAMIE, OR | FIX | (lat. 42°38′46.29″ N, long. 123°00′57.97″ W)
BROKN, OR | FIX | (lat. 42°45′37.47″ N, long. 122°57′53.29″ W)
SSTRS, OR | WP | (lat. 43°40′36.47″ N, long. 121°34′47.27″ W)
HERBS, OR | FIX | (lat. 44°25′07.23″ N, long. 121°16′51.75″ W)
JJETT, OR | WP | (lat. 44°56′35.43″ N, long. 121°40′56.36″ W)
CANBY, OR | FIX | (lat. 45°18′38.05″ N, long. 122°45′53.61″ W)
QAARY, OR | WP | (lat. 46°07′56.92″ N, long. 123°29′25.62″ W)
WUMOX, WA | FIX | (lat. 47°35′07.83″ N, long. 122°40′26.84″ W)
ZONUV, WA | WP | (lat. 48°34′10.29″ N, long. 122°44′14.63″ W)
SECOG, WA | FIX | (lat. 48°59′42.80″ N, long. 122°32′17.97″ W)

Issued in Washington, DC, on April 18, 2018.
Rodger A. Dean Jr.,
Manager, Airspace Policy Group.

[FR Doc. 2018-08550 Filed 4-25-18; 8:45 am]

BILLING CODE 4910-13-P